DEPARTMENT OF THE INTERIOR

Fish and Wildlife Service

Lehua Island Ecosystem Restoration Project; Joint Federal and State of Hawaii Environmental Document

AGENCY: Fish and Wildlife Service, Interior.

ACTION: Notice of intent.

SUMMARY: Pursuant to the National Environmental Policy Act, this notice advises the public that the U.S. Fish and Wildlife Service (Service) and the Hawaii Department of Land and Natural Resources (DLNR) intend to gather information necessary to prepare a joint Federal/State environmental document (environmental assessment or environmental impact statement) for the proposed Lehua Island Ecosystem Restoration Project. The United States Coast Guard, the owner of Lehua Island, intends to become a cooperating agency with us, for the purposes of preparing the environmental document. This document will address the proposal of eradicating non-native rodents and possibly non-native rabbits from Lehua as a means of restoring native seabirds, insects and coastal plants, some of which are threatened with extinction. In addition, the Service and the DLNR propose to implement preventative actions to keep non-native mammals from re-establishing on Lehua, and respond to any such re-introductions. The proposed project would take place on the island of Lehua, Kauai County, Hawaii and would be managed by the Service in cooperation with the DLNR.

The Service is furnishing this notice in order to: (1) Advise other Federal and State agencies, affected tribes, and the public of our intentions; (2) announce the initiation of a 40-day public scoping period; and (3) to obtain suggestions and information on the scope of issues to be included in the environmental document.

DATES: Written comments from all interested parties must be postmarked by 40 days from the date of publication. A public meeting is scheduled to be held in Lihue, Kauai on Wednesday June 9, 2004, at the Lihue Neighborhood Center from 7-9 p.m.

ADDRESSES: Please address comments and requests to be added to the mailing list to Chris Swenson, Project Biologist, U.S. Fish and Wildlife Service, 300 Ala Moana Boulevard, Room 3-122, Honolulu, Hawaii 96850, facsimile: (808) 792-9580.

FOR FURTHER INFORMATION CONTACT: Project Biologists Chris Swenson or Katie Swift at the above address or telephone: (808) 792-9400.

SUPPLEMENTARY INFORMATION: Lehua Island, located approximately 31 kilometers west of Kauai, Hawaii, is known for its beauty and biological diversity. Seventeen species of seabirds have been recorded from Lehua, including nesting Laysan and Black-Footed Albatross, and Newell's Shearwaters, a species listed as threatened under the Endangered Species Act of 1973, as amended. Lehua, a designated State seabird sanctuary, is also home to several species of native coastal plants and insects. However, non-native rats are also present on the island. Rats impact seabirds through predation and are known to have eliminated many seabird species from islands around the world. They also feed on native plants and insects and can suppress or eliminate many of these species as well. In addition, non-native rabbits were introduced to Lehua during or before the 1930s. On many islands, rabbits have decimated the vegetation and even competed with seabirds for use of burrows. After conducting biological surveys of Lehua and a careful examination of known impacts of rats and rabbits on island ecosystems, Service and DLNR biologists, in consultation with other experts, have concluded that the proposed eradication of rodents and rabbits is a prudent management action. Successful eradication would allow re-colonization and restoration of several species of plants and seabirds on Lehua. Following the proposed eradication, there could still be a threat of re-introduction of non-native mammals from grounded vessels and transport of people and materials to the island. Service and DLNR wildlife managers are proposing to have the capability to respond rapidly to any such introductions.

The Service is engaging in the proposed Lehua restoration project under the management authorities granted it by the Endangered Species Act of 1973 as amended (16 U.S.C. 1531-1544), the Migratory Bird Treaty Act of 1918 as amended (16 U.S.C. 703-712) and the Fish and Wildlife Act of 1956 as amended (16 U.S.C. 742a-742j, not including 742 d-l). The DLNR is engaging in this project under the authorities of Hawaii Revised Statutes 183D-4 and 195D-5, which authorize it to manage wildlife sanctuaries and to manage and protect indigenous and endangered species and their associated ecosystems.

The Service and the DLNR are proposing to conduct an environmental review of the Lehua Island Ecosystem Restoration Project and prepare a joint Federal/State environmental document for impacts related to the ecosystem and the human environment. Alternatives for eradication may include the following methods or a combination of these methods: aerial broadcast of bait pellets containing rodenticides, hand broadcast of rodenticide pellets and/or placing rodenticides in bait stations for rat eradication; and shooting and/or trapping for rabbit eradication. Eradications could potentially be followed by monitoring the success of the removal actions and the response of native biota to alien species removal.

The environmental review will analyze the Lehua Island Ecosystem Restoration Project, as well as a full range of reasonable alternatives, and the associated impacts of each alternative. Should information become available during the scoping process that indicates the likelihood of significant environmental impacts from the Lehua Island Ecosystem Restoration Project, the Service will proceed with preparation of an environmental impact statement (EIS). Otherwise, an environmental assessment will be prepared to determine whether an EIS is needed.

The Service and the DLNR are requesting written comments regarding the proposed action from interested individuals, organizations and agencies. Respondents should address concerns regarding potential environmental impacts to the human environment, applicable mitigation and reasonable alternatives they feel could be included in the environmental analysis. Additional information, including the time and location of the public meeting, any changes to the project scope, and availability of draft documents for review will be sent out via local and regional press releases and direct mailings.

The environmental review of this project will be conducted in accordance with the requirements of the National Environmental Policy Act of 1969, as amended (42 U.S.C. 4321 et seq.), National Environmental Policy Act Regulations 40 CFR (1500-1508), other appropriate Federal laws and regulations, and policies and procedures of the Service for compliance with those regulations.

Dated: April 15, 2004.
Carolyn A. Bohan,
Regional Director, Fish and Wildlife Service, Region 1, Portland, Oregon.

[FR Doc. 04-11075 Filed 5-14-04; 8:45 am]

BILLING CODE 4310-55-P